DEPARTMENT OF LABOR

Employment and Training Administration

[TA-W-81,557; TA-W-81,557A; TA-W-81,557B; TA-W-81,557C; ;TA-W-81,557D; Ta-W-81,557e]

Te Connectivity, Industrial Division, Middletown, Pennsylvania; Te Connectivity, Corporate Shared Services Group 100 & 200 Amp Drive, Harrisburg, Pennsylvania; Te Connectivity Corporate Shared Services Group, 3700 Reidsville Road, Winston-Salem, North Carolina; Te Connectivity, Corporate Shared Services Group, 1187 Park Place, Shakopee, Minnesota; Te Connectivity, Corporate Shared Services Group, 250 Industrial Way, Eatontown, New Jersey; Te Connectivity, Global Headquarters, 1050 Westlakes Drive, Berwyn, Pennsylvania; Amended Certification Regarding Eligibility To Apply for Worker Adjustment Assistance and Alternative Trade Adjustment Assistance

In accordance with Section 223 of the Trade Act of 1974 (19 U.S.C. 2273), as amended, and Section 246 of the Trade Act of 1974 (26 U.S.C. 2813), as amended, the Department of Labor issued a Certification of Eligibility To Apply for Worker Adjustment Assistance on June 22, 2012, applicable to workers and former workers of TE Connectivity, Industrial Division, Middletown, Pennsylvania (TA-W-81,557). The workers' firm is engaged in activities related to the production of electrical connectors.

At the request of the subject firm, the Department reviewed the certification for workers of the subject firm.

New information provided by the subject firm revealed that the Middletown, Pennsylvania facility is supported by workers in the subject firm's auxiliary facilities located at Harrisburg, Pennsylvania, Winston-Salem, North Carolina, Shakopee, Minnesota, Eatontown, New Jersey, and Berwyn, Pennsylvania.

The intent of the Department's certification is to include all workers at the subject firm who are adversely affected by the subject firm's shift of production to a foreign country.

Based on these findings, the Department is amending this certification to include workers at these auxiliary facilities.

The amended notice applicable to TA-W-81,557 is hereby issued as follows:

All workers of TE Connectivity, Industrial Division, Middletown, Pennsylvania (TA-W-81,557), TE Connectivity, Corporate Shared Services Group, 100 & 200 Amp Drive, Harrisburg, Pennsylvania (TA-W-81,557A), TE Connectivity, Corporate Shared Services Group, 3700 Reidsville Road, Winston-Salem, North Carolina (TA-W-81,557B), TE Connectivity, Corporate Shared Services Group, 1187 Park Place, Shakopee, Minnesota (TA-W-81,557C), TE Connectivity, Corporate Shared Services Group, 250 Industrial Way, Eatontown, New Jersey (TA-W-81,557D) and TE Connectivity, Global Headquarters, Berwyn, Pennsylvania (TA-W-81,557E), who became totally or partially separated from employment on or after April 27, 2011, through June 22, 2014, and all workers in the group threatened with total or partial separation from employment on June 22, 2012 through June 22, 2014, are eligible to apply for adjustment assistance under Chapter 2 of Title II of the Trade Act of 1974, as amended, and are also eligible to apply for alternative trade adjustment assistance under Section 246 of the Trade Act of 1974, as amended.

Signed in Washington, DC, this 26th day of April, 2013.
Del Min Amy Chen,
Certifying Officer, Office of Trade Adjustment Assistance.

[FR Doc. 2013-11471 Filed 5-14-13; 8:45 am]

BILLING CODE 4510-FN-P